DEPARTMENT OF COMMERCE

International Trade Administration

[A-580-807]

Polyethylene Terephthalate Film Sheet and Strip from the Republic of Korea: Extension of Time Limit for Final Results of Changed Circumstances Review

AGENCY: Import Administration, International Trade Administration, Department of Commerce.

EFFECTIVE DATE: February 6, 2008.

FOR FURTHER INFORMATION CONTACT: Michael Heaney or Robert James, AD/CVD Operations, Office 7, Import Administration, International Trade Administration, U.S. Department of Commerce, 14th Street and Constitution Avenue NW, Washington, DC 20230; telephone: (202) 482-4475 or (202) 482-0649, respectively.

SUPPLEMENTARY INFORMATION: On October 2, 2007, the Department of Commerce (the Department) published the preliminary results of the changed circumstances review in the antidumping duty order of polyethylene terephthalate film sheet and strip from the Republic of Korea. See Polyethylene Terephthalate Film Sheet and Strip from the Republic of Korea: Preliminary Results of Changed Circumstances Review and Intent to Reinstate Kolon Industries, Inc. in the Antidumping Duty Order, (Preliminary Results) 72 FR 56048 (October 2, 2007). The current deadline for the final results of this review is January 30, 2008.

Extension of Time Limits for Final Results

In our Preliminary Results, we indicated we would issue the final results of this changed circumstances review within 120 days after the date on which the preliminary results were published. However, it is not practicable to complete the review within this time period. Accordingly, pursuant to 19 CFR 351.302(b), we are extending the time limit by 60 days.

The Department finds that it is not practicable to complete this review within the original time frame. In order to evaluate fairly the issues raised by Petitioners (DuPont Teijin Films, Mitsubishi Polyester Film, Inc., SKC Inc., and Toray Plastics (America) Inc.) and Kolon Industries, Inc., in their respective case and rebuttal briefs, we are extending the time frame for completion of this review. These issues include the appropriate model matching procedures to employ in this changed circumstances review, and whether the Department should employ investigation or administrative review methodologies in calculating dumping margins. Consequently, in accordance with 19 CFR 351.302(b), the Department is extending the time period for issuing the final results of review by 60 days. Therefore, the final results will be due no later than March 30, 2008. As March 30, 2008 falls on a Sunday, our final results will be issued no later than Monday March 31, 2008. This notice is published in accordance with section 771(i) of the Tariff Act, as amended.

Dated: January 30, 2008.
Stephen J. Claeys,
Deputy Assistant Secretary for Import Administration.

[FR Doc. E8-2179 Filed 2-5-08; 8:45 am]

BILLING CODE 3510-DS-S